DEPARTMENT OF AGRICULTURE

Animal and Plant Health Inspection Service

7 CFR Part 301

[Docket No. APHIS-2006-0114]

RIN 0579-AC07

Citrus Canker; Quarantine of the State of Florida; Technical Amendment

AGENCY: Animal and Plant Health Inspection Service, USDA.

ACTION: Interim rule; technical amendment.

SUMMARY: In an interim rule published in the Federal Register on August 1, 2006, we amended the citrus canker regulations to list the entire State of Florida as a quarantined area for citrus canker and to amend the requirements for the movement of regulated articles from Florida now that the eradication of citrus canker in Florida is no longer being carried out as an objective. We also amended the regulations to allow regulated articles that would not otherwise be eligible for interstate movement to be moved to a port for immediate export. In this amendment, we are clarifying that, if citrus canker is found in any grove during the preharvest inspection or afterward, fruit from that grove will be ineligible to move interstate for that entire shipping season.

DATES: Effective Date: January 12, 2007.

FOR FURTHER INFORMATION CONTACT: Mr. Stephen Poe, Senior Operations Officer, EDP, PPQ, APHIS, 4700 River Road Unit 137, Riverdale, MD 20737-1231; (301) 734-4387.

SUPPLEMENTARY INFORMATION:

Background

The regulations in 7 CFR 301.75-1 through 301.75-14 (referred to below as the regulations) prohibit or restrict the interstate movement of regulated articles from and through areas quarantined because of citrus canker and provide conditions under which regulated fruit may be moved into, through, and from quarantined areas for packing. These regulations are promulgated pursuant to the Plant Protection Act (7 U.S.C. 7701 et seq.).

In an interim rule published in the Federal Register on August 1, 2006 (71 FR 43345-43352, Docket No. APHIS-2006-0114), we amended the regulations to list the entire State of Florida as a quarantined area for citrus canker and to amend the requirements for the movement of regulated articles from Florida now that the eradication of citrus canker in Florida is no longer being carried out as an objective. We also amended the regulations to allow regulated articles that would not otherwise be eligible for interstate movement to be moved to a port for immediate export.

Following publication of the interim rule, it came to our attention that one of the provisions in the rule did not make clear our intention. As established by the interim rule, § 301.75-7 spells out the requirements that must be met in order for regulated fruit to be moved from a quarantined area. Paragraph (a)(2) of that section provides that, no more than 30 days before the beginning of harvest, every tree must be inspected by an inspector and the grove must be found free of citrus canker. Further, in groves producing limes, every tree must be inspected by an inspector and the grove must be found free of citrus canker every 120 days or less thereafter for as long as harvest continued. Some regulated entities have interpreted these provisions as allowing for the interstate movement of fruit from groves with trees showing signs of citrus canker, provided that the affected trees are removed and the grove is then reinspected prior to harvest and found free of citrus canker. This interpretation is not consistent with the intent of these provisions. Rather, these provisions are intended to only allow the interstate movement of fruit from groves where citrus canker has not been found during the preharvest inspection and afterward. Therefore, in order to avoid confusion, we are revising § 301.75-7(a)(2) to explicitly state that, if citrus canker is found in a grove when the preharvest inspection is conducted, or at any other time beginning August 1 of the year in which the fruit is to be harvested and extending through the harvest season (including into the next calendar year), fruit from the grove will not be eligible for interstate movement for the remainder of the harvest season.

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.75-7, paragraph (a)(2) is revised to read as follows:

§ 301.75-7 Interstate movement of regulated fruit from a quarantined area.

(a) * * *

(2) No more than 30 days before the beginning of harvest, every tree was inspected by an inspector and the grove was found free of citrus canker. Further, in groves producing limes, every tree was inspected by an inspector and the grove was found free of citrus canker every 120 days or less thereafter for as long as harvest continued. If citrus canker is found in a grove when the preharvest inspection is conducted, or at any other time beginning August 1 of the year in which the fruit is to be harvested and extending through the harvest season (including into the next calendar year), fruit from that grove will not be eligible for interstate movement for the remainder of the harvest season.

* * * * *

Done in Washington, DC, this 8th day of January 2007.
Kevin Shea,
Acting Administrator, Animal and Plant Health Inspection Service.

[FR Doc. E7-370 Filed 1-11-07; 8:45 am]

BILLING CODE 3410-34-P